DEPARTMENT OF TRANSPORTATION

[Docket No. FRA-2006-25980]

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroad has petitioned the Federal Railroad Administration (FRA) seeking approval for the discontinuance or modification of the signal system or relief from the requirements of 49 CFR Part 236 as detailed below.

Applicant: Springfield Terminal Railway Company, Mr. T. Kunzler, Chief Engineer, C&S, Iron Horse Park, North Billerica, Massachusetts 01862-1688.

The Springfield Terminal Railway Company seeks approval of the proposed modification of the traffic control system on the Boston and Maine Corporation's single main track “Freight Main Line,” consisting of the relocation of the back-to-back intermediate signal Nos. 1628 and 1629, located near milepost K-443, to a new location approximately 3,700 feet westward, near milepost K-444, in Hoosick, New York.

The reason given for the proposed change is to eliminate the need for multiple tunable couplers that could adversely affect AHCP reliability.

Any interested party desiring to protest the granting of an application shall set forth specifically the grounds upon which the protest is made, and include a concise statement of the interest of the party in the proceeding. Additionally, one copy of the protest shall be furnished to the applicant at the address listed above.

All communications concerning this proceeding should be identified by the docket number and must be submitted to the Docket Clerk, DOT Central Docket Management Facility, Room PL-401 (Plaza Level), 400 7th Street, SW., Washington, DC 20590-0001. Communications received within 45 days of the date of this notice will be considered by the FRA before final action is taken. Comments received after that date will be considered as far as practicable. All communications concerning these proceedings should identify the appropriate docket number (Docket No. FRA-2006-25980) and may be submitted by any of the following methods:

• Web site: http://dms.dot.gov. Follow the instructions for submitting comments on the DOT electronic docket site.

• Fax: 202-493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by evidence that the party is unable to adequately present his or her position in writing, an application may be set for a public hearing.

Issued in Washington, DC on November 1, 2006.
Grady C. Cothen, Jr.,
Deputy Associate Administrator for Safety, Standards and Program Development.

[FR Doc. E6-18618 Filed 11-3-06; 8:45 am]

BILLING CODE 4910-06-P